DEPARTMENT OF THE INTERIOR

Fish and Wildlife Service

[FWS-R4-ES-2013-N280; 40120-1112-0000-F2]

Receipt of Applications for Endangered Species Permits

AGENCY: Fish and Wildlife Service, Interior.

ACTION: Notice.

SUMMARY: We, the U.S. Fish and Wildlife Service, invite the public to comment on the following applications to conduct certain activities with endangered species. With some exceptions, the Endangered Species Act (ESA) prohibits activities with listed species unless a Federal permit is issued that allows such activities. The ESA requires that we invite public comment before issuing these permits.

DATES: We must receive written data or comments on the applications at the address given below, by February 6, 2014.

ADDRESSES: Documents and other information submitted with the applications are available for review, subject to the requirements of the Privacy Act and Freedom of Information Act, by any party who submits a written request for a copy of such documents to the following office within 30 days of the date of publication of this notice: U.S. Fish and Wildlife Service, 1875 Century Boulevard, Suite 200, Atlanta, GA 30345 (Attn: David Dell, Permit Coordinator).

FOR FURTHER INFORMATION CONTACT: David Dell, Permit Coordinator, telephone 404-679-7313; facsimile 404-678-7081.

SUPPLEMENTARY INFORMATION: The public is invited to comment on the following applications for permits to conduct certain activities with endangered and threatened species pursuant to section 10(a)(1)(A) of the Endangered Species Act of 1973, as amended (16 U.S.C. 1531 et seq.), and our regulations in the Code of Federal Regulations (CFR) at 50 CFR 17. This notice is provided under section 10(c) of the Act.

If you wish to comment, you may submit comments by any one of the following methods. You may mail comments to the Fish and Wildlife Service's Regional Office (see ADDRESSES section) or send them via electronic mail (email) to: permitsR4ES@fws.gov. Please include your name and return address in your email message. If you do not receive a confirmation from the Fish and Wildlife Service that we have received your email message, contact us directly at the telephone number listed above (see FOR FURTHER INFORMATION CONTACT). Finally, you may hand-deliver comments to the Fish and Wildlife Service office listed above (see ADDRESSES).

Before including your address, telephone number, email address, or other personal identifying information in your comments, you should be aware that your entire comment—including your personal identifying information—may be made publicly available at any time. While you can ask us in your comments to withhold your personal identifying information from public review, we cannot guarantee that we will be able to do so.

Permit Application Number: TE136811

Applicant: Theater of the Sea, Islamorada, Florida

The applicant requests authorization to receive and retain, for greater than 45 days, Kemp's ridley (Lepidochelys kempii), hawksbill (Eretmochelys imbricata), leatherback (Dermochelys coriacea), green (Chelonia mydas), loggerhead (Caretta caretta), and olive ridley (Lepidochelys olivacea) sea turtles for veterinary treatment, release, educational display, or euthanasia under certain conditions.

Permit Application Number: TE061069-3

Applicant: U.S. Army Corps of Engineers, Memphis, Tennessee

The applicant requests authorization to amend their permit to take (capture, handle, conduct tissue sampling, release, and collect dead shells for identification) two additional species of freshwater mussels for the purpose of conducting presence/absence/population surveys and assisting in species recovery efforts. These activities will be conducted throughout Mississippi, Arkansas, Kentucky, Tennessee, Louisiana, Florida and Alabama for the following species: fat three-ridge (Amblema neislerii) and rabbitsfoot (Quadrula cylindrica).

Permit Application Number: TE18717B-0

Applicant: Garden and Forest, LLC, Key Largo, Florida

The applicant requests authorization to take the Key Largo wood rat (Neotoma floridana smalli), Key Largo cotton mouse (Peromyscus gossypinus allapaticola), Schaus' swallowtail butterfly (Heraclides aristodemus ponceanus), and Key tree cactus (Pilosocereus robinii) for the purpose of conducting presence/absence surveys.

Permit Application Number: TE18825B-0

Applicant: Timothy Savidge, Hillsborough, North Carolina

The applicant requests authorization to take endangered fish and mollusk species while conducting listed species monitoring activities. These activities will be conducted throughout North Carolina, South Carolina, Georgia and Alabama for the following species: James spinymussel (Pleurobema collina), dwarf-wedge mussel (Alasmidonta heterodon), Tar spinymussel (Elliptio steinstansanna), Carolina heelsplitter (Lasmigona decorata), Altamaha spiny mussel (Elliptio spinosa), Chipola slabshell (Elliptio chipolaensis), Gulf moccasinshell (Medionidus penicillatus), Ochlockonee moccasinshell (Medionidus simpsonianus), oval pigtoe (Pleurobema pyriforme), shinyrayed pocketbook (Lampsilis subangulata), fat three-ridge (Amblema neislerii), purple bankclimber (Elliptiodeus solatianus), winged spike (Elliptio nigella), lined pocketbook (Lampsilis binominata), Georgia pigtoe (Pleurobema hanleyianum), Alabama moccasinshell (Medionidus acutissimus), Coosa moccasinshell (Medionidus parvulus), finelined pocketbook (Lampsilis (=Hamiota) altilis), ovate clubshell (Pleurobema perovatum), southern acornshell (Epioblasma otcaloogensis), southern clubshell (Pleurobema decisum), southern pigtoe (Pleurobema georgianum), triangular kidneyshell (Ptycobranchus greenii), upland combshell (Epioblasma metastriata), Georgia pigtoe (Pleurobema hanleyianum), painted pigtoe (Pleurobema chattanoogaense), amber darter (Percina antesella), Conasauga logperch (Percina jenkinsi), Etowah darter (Etheostoma etowahae), blue shiner (Cyprinella caerulea), Cherokee darter (Etheostoma scotti), goldline darter (Percina aurolineata), Appalachian elktoe (Alasmidonta raveneliana), Cumberland bean (Villosa trabalis), little-wing pearlymussel (Pegius fabula), oyster mussel (Epioblasma capsaeformis), tan riffleshell (Epioblasma florentina walkeri), snail darter (Percina tanasi), spotfin chub (Cyprinella monacha), yellowfin madtom (Noturus flavipinnis), Cape Fear shiner (Notropis mekistocholas),Waccamaw silverside (Menidia extensa), American eel (Anguilla rostrata), and shortnose sturgeon (Acipenser brevirostrum).

Permit Application Number: TE81756A-1

Applicant: Jason Robinson, Lexington, Kentucky

The applicant requests authorization to amend his current permit to take (capture, handle, radio tag, and release) Indiana bats (Myotis sodalis) for recovery-related research throughout the range of the species in Alabama, Arkansas, Florida, Georgia, Illinois, Indiana, Iowa, Kentucky, Maryland, Michigan, Mississippi, Missouri, New Jersey, New York, North Carolina, Ohio, Oklahoma, Pennsylvania, Tennessee, Vermont, Virginia, and West Virginia.

Permit Application Number: TE017848-0

Applicant: Clearwater Marine Aquarium, Inc., Clearwater, Florida

The applicant requests renewal of existing authorization to hold for veterinary treatment, to retain unreleasable specimens, or to euthanize specimens of Kemp's ridley (Lepidochelys kempii), hawksbill (Eretmochelys imbricata), leatherback (Dermochelys coriacea), green (Chelonia mydas), loggerhead (Caretta caretta), and olive ridley (Lepidochelys olivacea) sea turtles. Treatment facilities are at Clearwater Marine Aquarium, but specimens may be accepted from authorized sources throughout Florida and other southeastern states.

Permit Application Number: TE027307-6

Applicant: Paul Yokley, Florence, Alabama

The applicant requests authorization to renew his current permit take endangered fish and mollusk species while conducting species monitoring activities; and amend his current permit to take (capture, handle, radio tag and release) Indiana bats (Myotis sodalis), and gray bats (M. grisescens) for recovery-related research throughout the range of these species in Tennessee, Georgia, Mississippi, and Alabama.

Permit Application Number: TE148282

Applicant: Jack Wilhide, Richmond, Kentucky

The applicant requests authorization to take (capture, mark, apply transmitters, track, survey, and collect tissues) Indiana bat (Myotis sodalis), gray bat (M. grisescens), Virginia big-eared bat (Corynorhinus townsendii virginianus), and Ozark big-eared bat (C. t. ingens) in Arkansas, Kentucky, Tennessee, North Carolina, West Virginia, Virginia, Indiana, Ohio, Illinois, New York, Maryland, Pennsylvania, Missouri, Mississippi, Alabama, Georgia, and Michigan while conducting presence/absence surveys, studies to document habitat use, and population monitoring.

Permit Application Number: TE12169B-0

Applicant: Headwater Science, LLC, Forsyth, Georgia

The applicant requests authorization to take endangered species while conducting listed species monitoring activities. These activities will be conducted throughout Georgia for the following species: amber darter (Percina antesella), Conasauga logperch (Percina jenkinsi), Etowah darter (Etheostoma etowahae), Cherokee darter (Etheostoma scotti), snail darter (Percina antesella), goldline darter (Percina aurolineata), shortnose sturgeon (Acipenser brevirostrum), frosted flatwoods salamander (Ambystoma cingulatum), Eastern indigo snake (Drymarchon corais couperi), wood stork (Mycteria Americana), and red-cockaded woodpecker (Picoides borealis).

Permit Application Number: TE121059-0

Applicant: Round Mountain Biological and Environmental Studies, Inc., Nicholasville, Kentucky

The applicant requests renewal of authorization to conduct surveys, population monitoring, and ecological studies for the Indiana bat (Myotis sodalis), gray bat (M. grisescens), and Virginia big-eared bat (Corynorhinus townsendii virginianus) in Kentucky and Tennessee.

Permit Application Number: TE812344

Applicant: Pennington and Associates, Inc., Cookeville, Tennessee

The applicant requests authorization amend his current permit to include take (capture, handle, conduct tissue sampling, and release) of the dromedary pearly mussel (Dromus dromas) and the laurel dace (Chrosomus saylori) for the purpose of conducting presence/absence/population surveys and assisting in species recovery efforts. These activities will be conducted throughout the range of each species.

Permit Application Number: TE002507

Applicant: Vincent Morris, Florida Division of Forestry, Brooksville, Florida

The applicant requests renewal of his existing authorization to harass the red-cockaded woodpecker (Picoides borealis) while conducting management activities for this species throughout Florida.

Dated: December 20, 2013.
Mike Oetker,
Acting Regional Director.

[FR Doc. 2014-00017 Filed 1-6-14; 8:45 am]

BILLING CODE 4310-55-P